NUCLEAR REGULATORY COMMISSION

[Docket No. 50-400]

Carolina Power & Light Company; Notice of Partial Withdrawal of Application for Amendment to Facility Operating License

The U.S. Nuclear Regulatory Commission (the Commission) has granted the request of Carolina Power & Light Company (the licensee) to partially withdraw its August 18, 2005, application for proposed amendment to Facility Operating License No. NPF-63 for Shearon Harris Nuclear Power Plant, Unit No. 1 (HNP), located in Wake and Chatham Counties, North Carolina.

The proposed amendment would have allowed the use of fire-resistive electrical cable at HNP for protection of safe shutdown electrical cables. On May 1, 2006, the NRC staff issued Amendment No. 123 to the HNP Facility Operating License authorizing the use of fire-resistive electrical cable for the specific application of the volume control tank outlet valves, 1CS-165 and 1CS-166, in certain fire areas. In addition, the NRC staff stated that it would continue to review the proposed changes in the final safety analysis report to reflect the use of the fire-resistive electrical cable in other applications. The licensee requested to discontinue the review of the proposed changes to reflect the use of the fire-resistive electrical cable in other applications.

The Commission had previously issued a Notice of Consideration of Issuance of Amendment published in the Federal Register on November 8, 2005 (70 FR 67745). However, by letter dated June 5, 2006, the licensee partially withdrew the proposed change.

For further details with respect to this action, see the application for amendment dated August 18, 2005, as supplemented by letter dated February 15, 2006, and the licensee's letter dated June 5, 2006, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 31st day of July, 2006.
For the Nuclear Regulatory Commission.
L. Raghavan,
Chief, Plant Licensing Branch II-2, Division of Operating Reactor Licensing, Office of Nuclear Reactor Regulation.

[FR Doc. E6-12913 Filed 8-8-06; 8:45 am]

BILLING CODE 7590-01-P